INTERNATIONAL TRADE COMMISSION

[Investigation Nos. 701-TA-741 and 731-TA-1718-1719 (Final)]

Paper File Folders From Cambodia and Sri Lanka; Cancellation of Hearing for Antidumping and Countervailing Duty Investigations.

AGENCY: United States International Trade Commission.

ACTION: Notice.

DATES: August 1, 2025.

FOR FURTHER INFORMATION CONTACT: Mary Messer (202-205-3193), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: On May 29, 2025, the Commission established a schedule for the final phase of the antidumping and countervailing duty investigations (90 FR 23708, June 4, 2025). On July 31, 2025, counsel for the Coalition of Domestic Folder Manufacturers filed a request to appear at the hearing. No other parties submitted a request to appear at the hearing. On August 1, 2025, counsel for the Coalition of Domestic Folder Manufacturers filed a request that the Commission cancel the scheduled hearing for these investigations and indicated a willingness to respond to any Commission questions in lieu of an actual hearing. Consequently, the public hearing in connection with these investigations, scheduled to begin at 9:30 a.m. on Tuesday, August 5, 2025, is cancelled. Parties to these investigations should respond to any written questions posed by the Commission in their posthearing briefs, which are due to be filed on August 12, 2025.

For further information concerning these investigations, see the Commission's notice cited above and the Commission's Rules of Practice and Procedure, part 201, subparts A and B (19 CFR part 201), and part 207, subparts A and C (19 CFR part 207).

Authority: These investigations are being conducted under authority of title VII of the Tariff Act of 1930; this notice is published pursuant to § 207.21 of the Commission's rules.

By order of the Commission.
Issued: August 4, 2025.
Lisa Barton,
Secretary to the Commission.

[FR Doc. 2025-14898 Filed 8-5-25; 8:45 am]

BILLING CODE 7020-02-P